ELECTION ASSISTANCE COMMISSION

Sunshine Act Notice

AGENCY: United States Election Assistance Commission.

ACTION: Notice of Public Meeting.

Date and Time: Thursday, September 21, 2006, 9:30 a.m.-3:30 p.m. (CDT).

Place: University of Missouri—St. Louis, Millennium Center, One University Boulevard, St. Louis, MO 63121-4400, (314) 516-5000.

Agenda: The Commission will receive presentations on the following topics: voter information access portals and military and overseas voting. The Commission will consider other administrative matters.

This meeting will be open to the public.

PERSON TO CONTACT FOR INFORMATION: Bryan Whitener, Telephone: (202) 566-3100.

Thomas R. Wilkey,
Executive Director, U.S. Election Assistance Commission.

[FR Doc. 06-7448 Filed 8-31-06; 12:55 pm]

BILLING CODE 6820-KF-M